DEPARTMENT OF DEFENSE

Department of the Navy

32 CFR Part 707

[Docket ID: USN-2018-HQ-0010]

RIN 0703-AB04

Special Rules With Respect to Additional Station and Signal Lights

AGENCY: Department of the Navy, Department of Defense.

ACTION: Final rule.

SUMMARY: This final rule removes Department of the Navy regulations concerning Special Rules with Respect to Additional Station and Signal Lights. Public notification of U.S. Navy vessels which display additional station and signal lights is governed by statute and executive order which direct that such notice be published in the Federal Register. The content of this part imposes no burden on the public, and the rule is not required. Notice will continue to be provided the public through the publication of notice documents in the Federal Register. Therefore, this rule can be removed from the CFR.

DATES: This rule is effective on January 31, 2019.

FOR FURTHER INFORMATION CONTACT: LCDR Bradley Davis at 202-685-5040.

SUPPLEMENTARY INFORMATION: 33 U.S.C. 1605 and Executive Order 11964 of January 19, 1977, direct the Department of the Navy to provide public notice in the Federal Register of U.S. Navy vessels which display additional station and signal lights. It has been determined that publication of this CFR part removal for public comment is impracticable, unnecessary, and contrary to public interest since statutorily required notice will continue to be accomplished through publication of notice documents in the Federal Register.

Removal of this part does not add or reduce the burden or cost on the public in any way. The cost of notifying the public regarding additional station and signal lights displayed by U.S. Navy vessels will remain the same with removal of the part.

This rule is not significant under Executive Order (E.O.) 12866, “Regulatory Planning and Review,” therefore, E.O. 13771, “Reducing Regulation and Controlling Regulatory Costs” does not apply.

List of Subjects in 32 CFR Part 707

Marine safety; Navigation (water).

PART 707—[REMOVED]

Accordingly, by the authority of 5 U.S.C. 301, 32 CFR part 707 is removed.

Dated: January 29, 2019.
M.S. Werner,
Commander, Judge Advocate General's Corps, U.S. Navy, Federal Register Liaison Officer.

[FR Doc. 2019-00415 Filed 1-30-19; 8:45 am]

BILLING CODE 3810-FF-P